DEPARTMENT OF ENERGY

Western Area Power Administration

Wind Hydropower Integration Feasibility Study

AGENCY: Western Area Power Administration, DOE.

ACTION: Notice of a Draft Wind Hydropower Feasibility Study Report.

SUMMARY: The Western Area Power Administration (Western) is publishing this notice to inform interested parties of the Draft Feasibility Study Report for the Wind Hydropower Integration Feasibility Study (WHFS). The WHFS involved a study on the integration of wind energy generated by Indian tribes and hydropower generated by the Army Corps of Engineers on the Missouri River to supply power to Western. This study applies only to Western's Upper Great Plains Region (UGPR).

DATES: An entity interested in commenting on the Draft WHFS report must submit written comments to Western's Upper Great Plains Office at the address below. Western must receive written and/or electronic comments by 4 p.m., Mountain Daylight Time, on February 13, 2009. Western reserves the right to not consider any comments received after the prescribed date and time.

Western will hold a public meeting on the Draft Feasibility Study Report associated with the WHFS. The public meeting date is: January 13, at 1 p.m., Mountain Standard Time. The public meeting location is the Best Western Ramkota Hotel, 2111 N. LaCrosse Street, Rapid City, SD.

ADDRESSES: Send written comments to Mr. Robert J. Harris, Regional Manager, Upper Great Plains Region, Western Area Power Administration, 2900 4th Avenue North, Billings, MT 59101-1266, or e-mail UGPWindHydroFS@wapa.gov.

FOR FURTHER INFORMATION CONTACT: Mr. Michael A. Radecki, Energy Services Specialist, Upper Great Plains Region, Western Area Power Administration, 2900 4th Avenue North, Billings, MT 59101-1266, telephone (406) 247-7442, or e-mail radecki@wapa.gov.

SUPPLEMENTARY INFORMATION: The Energy Policy Act of 2005, Public Law 109-58 amended Title XXVI of the Energy Policy Act of 1992 to, inter alia, add a new Section 2606 (25 U.S.C. 3506). Section 2606 requires that the Secretary of Energy, in coordination with the Secretary of the Army and the Secretary [of the Interior], shall conduct a study of the cost and feasibility of developing a demonstration project that uses wind energy generated by Indian tribes and hydropower generated by the Army Corps of Engineers on the Missouri River to supply firming power to the Western Area Power Administration.

25 U.S.C. 3506(a) also directed the formation of a study team to include an independent tribal engineer and a Western customer representative. In March 2007, through written correspondence, Western requested nominations for an independent tribal engineer from each of the 25 Indian tribes in the UGPR. Three Indian tribes and one tribal organization responded and served as WHFS study team members. Western solicited non-tribal customer representation through the Mid-West Electric Consumers Association, which represents the majority of Western's customers in the UGPR. Three UGPR customers served as customer representative project team members.

Western requested public comment on the draft WHFS work plan through notice published in the Federal Register / Vol. 72 No. 181, pg. 53560-53561, on Wednesday, September 19, 2007. Additionally, a public meeting was held in Bismarck, North Dakota, on September 27, 2007. The final WHFS work plan was issued on November 5, 2007.

Objectives

Section 2606 (25 U.S.C. 3505 (c)), required that a report describing the results of the study be prepared and include an analysis and comparison of the potential energy cost or benefits to the customers of the Western Area Power Administration through the use of combined wind and hydropower; an economic and engineering evaluation of whether a combined wind and hydropower system can reduce reservoir fluctuation, enhance efficient and reliable energy production, and provide Missouri River management flexibility; if found feasible, recommendations for a demonstration project to be carried out by the Western Area Power Administration, in partnership with an Indian tribal government or tribal energy resource development organization, and Western Area Power Administration customers to demonstrate the feasibility and potential of using wind energy produced on Indian land to supply firming energy to the Western Area Power Administration; and an identification of the economic and environmental costs of, or benefits to be realized through, a Federal-tribal-customer partnership; and the manner in which a Federal-tribal-customer partnership could contribute to the energy security of the United States.

WHFS Draft Report

Western seeks public comment on the Draft WHFS report.

The Draft WHFS report has been structured to address the requirements of section 2606, as well as incorporate and make best use of previous wind integration and transmission studies. In particular, the study has incorporated the results of the Dakota Wind Transmission study, October 2005, to the extent appropriate. The WHFS report also documents efforts undertaken to fulfill the objectives identified in the WHFS work plan.

Availability of Information

The Draft WHFS report is available for inspection and copying at the UGPR office located at 2900 4th Ave. North, Billings, Montana. Comments and responses to comments on the Draft WHFS report will be available for inspection and copying at this location after the comment period closes. The Draft WHFS report and future WHFS documents are/will be available for viewing at http://www.wapa.gov/ugp/PowerMarketing/WindHydro/Default.htm.

WHFS Report Procedure Requirements

Environmental Compliance

In compliance with the National Environmental Policy Act (NEPA) of 1969 (42 U.S.C. 4321, et seq.); Council on Environmental Quality Regulations for implementing NEPA (40 CFR parts 1500-1508); and DOE NEPA Implementing Procedures and Guidelines (10 CFR part 1021), Western has determined the WHFS is encompassed within a class of action listed in Appendix A to Subpart D (10 CFR 1021.410) which lists actions not normally requiring the preparation of either an Environmental Impact Statement or an Environmental Assessment. Specifically, the WHFS action met the categorical exclusion listed under A9 of Appendix A to Subpart D of part 1021 “Information gathering/data analysis/document preparation/dissemination,” which specifically includes feasibility studies.

Dated: December 3, 2008.
Timothy J. Meeks,
Administrator.

[FR Doc. E8-29602 Filed 12-12-08; 8:45 am]

BILLING CODE 6450-01-P